DEPARTMENT OF THE INTERIOR

Fish and Wildlife Service

Information Collection Sent to the Office of Management and Budget (OMB) for Approval; OMB Control Number 1018-0012; Declaration for Importation or Exportation of Fish or Wildlife

AGENCY: Fish and Wildlife Service, Interior.

ACTION: Notice; request for comments.

SUMMARY: We (Fish and Wildlife Service) have sent an Information Collection Request (ICR) to OMB for review and approval. The ICR, which is summarized below, describes the nature of the collection and the estimated burden. This ICR is scheduled to expire on December 31, 2006. We may not conduct or sponsor and a person is not required to respond to a collection of information unless it displays a currently valid OMB control number. However, under OMB regulations, we may continue to conduct or sponsor this information collection while it is pending at OMB.

DATES: You must submit comments on or before January 22, 2007.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey at one of the addresses above or by telephone at (703) 358-2482.

SUPPLEMENTARY INFORMATION: OMB Control Number: 1018-0012.

Title: Declaration for Importation or Exportation of Fish or Wildlife.

Service Form Number(s): 3-177 and 3-177a.

Type of Request: Revision of a currently approved collection.

Affected Public: Businesses or individuals that import or export fish, wildlife, or wildlife products; scientific institutions that import or export fish or wildlife scientific specimens; government agencies that import or export fish or wildlife specimens for various purposes.

Respondent's Obligation: Required to obtain or retain benefits.

Frequency of Collection: On occasion.

Estimated Number of Respondents: 30,600.

Estimated Total Annual Responses: 170,000.

Estimated Time Per Response: 15 minutes for hard copy; 10 minutes for electronic completion.

Estimated Total Annual Burden Hours: 34,000.

Abstract: The Endangered Species Act (16 U.S.C. 1531 et seq.) makes it unlawful to import or export fish, wildlife, or plants without filing a declaration or report deemed necessary for enforcing the Act or upholding the Convention on International Trade in Endangered Species (CITES) (see 16 U.S.C. 1538(e)). With a few exceptions, businesses or individuals importing into or exporting from the United States any fish, wildlife, or wildlife product must complete and submit to the Service an FWS Form 3-177 (Declaration for Importation or Exportation of Fish or Wildlife). This form as well as FWS Form 3-177a (Continuation Sheet) and instructions for completion are available for electronic submission at https://edecs.fws.gov. These forms are also available in hard copy at http://www.fws.gov/forms/.

The information that we collect is unique to each wildlife shipment and enables us to (1) Accurately inspect the contents of the shipment; (2) enforce any regulations that pertain to the fish, wildlife, or wildlife products contained in the shipment; and (3) maintain records of the importation and exportation of these commodities. Additionally, since the United States is a member of CITES, we compile much of the collected information in an annual report that we provide to the CITES Secretariat in Geneva, Switzerland. This annual report on the number and types of imports and exports of fish, wildlife, and wildlife products is one of our treaty obligations under CITES. We also use the information obtained from FWS Form 3-177 as an enforcement tool and management aid to monitor the international wildlife market and detect trends and changes in the commercial trade of fish, wildlife, and wildlife products. Our Division of Scientific Authority and Division of Management Authority use this information to assess the need for additional protection for native species.

Businesses or individuals must file FWS Forms 3-177/3-177a with us at the time and port where they request clearance of the import or export of wildlife or wildlife products. In certain instances, they may file the forms with U.S. Customs and Border Protection. The information we collect includes:

(1) Name of the importer or exporter and broker.

(2) Scientific and common name of the fish or wildlife.

(3) Permit numbers (if permits are required).

(4) Description, quantity, and value of the fish or wildlife.

(5) Natural country of origin of the fish or wildlife.

In addition, certain information, such as the airway bill or bill of lading number, the location of the fish or wildlife for inspection, and the number of cartons containing fish or wildlife, assists our wildlife inspectors if a physical examination of the shipment is necessary. This information collection is part of a system of records covered by the Privacy Act (5 U.S.C. 552(a)).

Comments: On June 20, 2006, we published in the Federal Register (71 FR 35444) a notice that we planned to ask OMB to renew approval for this information collection. In that notice, we solicited public comments for 60 days, ending August 21, 2006. We received one comment, which did not address the information collection requirements. We did not make any changes as a result of this comment.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents. Comments submitted in response to this notice are a matter of public record.

Dated: November 16, 2006.
Hope Grey,
Information Collection Clearance Officer, Fish and Wildlife Service.

[FR Doc. E6-21893 Filed 12-20-06; 8:45 am]

BILLING CODE 4310-55-P